DEPARTMENT OF DEFENSE

Department of the Army, Corps of Engineers

32 CFR Part 644

33 CFR Chapter II

36 CFR Parts 312, 327, 328, 330, and 331

[COE-2017-0004]

United States Army, Corps of Engineers; Subgroup to the DoD Regulatory Reform Task Force, Review of Existing Rules

AGENCY: U.S. Army Corps of Engineers, DoD.

ACTION: Request for comment.

SUMMARY: In accordance with Executive Order 13777, “Enforcing the Regulatory Reform Agenda,” the United States Army, Corps of Engineers Subgroup to the DoD Regulatory Reform Task Force is seeking input on its existing regulations that may be appropriate for repeal, replacement, or modification. See the Supplementary Information section below for additional guidance.

DATES: Interested parties should submit written comments to the address shown below on or before September 18, 2017, to be considered.

ADDRESSES: You may send comments, identified by docket number COE-2017-0004, by any of the following methods:

• Federal eRulemaking Portal: http://www.regulations.gov. Docket number COE-2017-0004. Follow the instructions for sending comments.

• Email: CorpsRegulatoryReview@usace.army.mil and include docket number COE-2017-0004 in the subject line of the message.

• Mail: Headquarters, U.S. Army Corps of Engineers, Attn: CECW-CO-N (Ms. Mary Coulombe), 441 G Street NW., Washington, DC 20314-1000.

• Hand Delivery/Courier: Due to security requirements, we cannot receive comments by hand delivery or courier.

Instructions: Direct your comments to docket number COE-2017-0004. All comments received will be included in the public docket without change and may be made available on-line at http://www.regulations.gov, including any personal information provided, unless the commenter indicates that the comment includes information claimed to be Confidential Business Information (CBI) or other information whose disclosure is restricted by statute. Do not submit information that you consider to be CBI, or otherwise protected, through regulations.gov or email. The regulations.gov Web site is an anonymous access system, which means we will not know your identity or contact information unless you provide it in the body of your comment. If you send an email directly to the Corps without going through regulations.gov, your email address will be automatically captured and included as part of the comment that is placed in the public docket and made available on the Internet. If you submit an electronic comment, we recommend that you include your name and other contact information in the body of your comment and also include your contact information with any disk or CD-ROM you submit. If we cannot read your comment because of technical difficulties and cannot contact you for clarification, we may not be able to consider your comment. Electronic comments should avoid the use of any special characters, any form of encryption, and be free of any defects or viruses.

Docket: For access to the docket to read background documents or comments received, go to www.regulations.gov. All documents in the docket are listed. Although listed in the index, some information is not publicly available, such as CBI or other information whose disclosure is restricted by statute. Certain other material, such as copyrighted material, is not placed on the Internet and will be publicly available only in hard copy form.

FOR FURTHER INFORMATION CONTACT: Ms. Mary Coulombe, 202-761-1228, mary.j.coulombe@usace.army.mil.

SUPPLEMENTARY INFORMATION: On February 24, 2017, the President signed Executive Order (E.O.) 13777, “Enforcing the Regulatory Reform Agenda,” which established a Federal policy “to alleviate unnecessary regulatory burdens” on the American people.

Section 3(a) of the E.O. directs Federal agencies to establish a Regulatory Reform Task Force (Task Force). One of the duties of the Task Force is to evaluate existing regulations and “make recommendations to the agency head regarding their repeal, replacement, or modification.” The E.O. further asks that each Task Force “attempt to identify regulations that:

(i) Eliminate jobs, or inhibit job creation; (ii) are outdated, unnecessary, or ineffective; (iii) impose costs that exceed benefits; (iv) create a serious inconsistency or otherwise interfere with regulatory reform initiatives and policies; (v) are inconsistent with the requirements of section 515 of the Treasury and General Government Appropriation Act, 2001 (44 U.S.C. 3516 note), or the guidance issued pursuant to that provision in particular those regulations that rely in whole or in part on data, information, or methods that are not publicly available or that are insufficiently transparent to meet the standard of reproducibility; or (vi) derive from or implement Executive Orders or other Presidential directives that have been subsequently rescinded or substantially modified.”

Section 3(e) of the E.O. 13777 calls on the Task Force to “seek input and other assistance, as permitted by law, from entities significantly affected by Federal regulations, including State, local, and tribal governments, small businesses, consumers, non-governmental organizations, trade associations” on regulations that meet some or all of the criteria above. Through this notice, the United States Army, Corps of Engineers is soliciting such input from the public to inform evaluation of the United States Army, Corps of Engineers existing regulations by the Task Force's United States Army, Corps of Engineers Subgroup. Although the agency will not respond to each individual comment, the United States Army, Corps of Engineers may follow-up with respondents to clarify comments. The United States Army, Corps of Engineers values public feedback and will consider all input that it receives. In addition to the regulations listed below, we are open to receiving comments on other Corps of Engineers regulations as well.

The Corps regulations subject to this review are:

• 32 CFR part 644—Real Estate Handbook

• 33 CFR part 203—Emergency Employment of Army and Other Resources, Natural Disaster Procedures

• 33 CFR part 207—Navigation Regulations

• 33 CFR part 208—Flood Control Regulations

• 33 CFR part 209—Administrative Procedure

• 33 CFR part 210—Procurement Activities of the Corps of Engineers

• 33 CFR part 214—Emergency Supplies of Drinking Water

• 33 CFR part 220—Design Criteria for Dam and Lake Projects

• 33 CFR part 221—Work for Others

• 33 CFR part 222—Engineering and Design

• 33 CFR part 223—Boards, Commissions, and Committees

• 33 CFR part 230—Procedures for Implementing NEPA

• 33 CFR part 236—Water Resource Policies and Authorities: Corps of Engineers Participation in Improvements for Environmental Quality

• 33 CFR part 238—Water Resources Policies and Authorities: Flood Damage Reduction Measures in Urban Areas

• 33 CFR part 239—Water Resources Policies and Authorities: Federal Participation in Covered Flood Control Channels

• 33 CFR part 240—General Credit for Flood Control

• 33 CFR part 241—Flood Control Cost-sharing Requirements Under the Ability to Pay Provision

• 33 CFR part 242—Flood Plain Management Services Program Establishment of Fees for Cost Recovery

• 33 CFR part 245—Removal of Wrecks and Other Obstructions

• 33 CFR part 263—Continuing Authorities Programs

• 33 CFR part 273—Aquatic Plant Control

• 33 CFR part 274—Pest Control Program for Civil Works Projects

• 33 CFR part 276—Water Resources Policies and Authorities: Application of Section 134a of Public Law 94-587

• 33 CFR part 277—Water Resources Policies and Authorities: Navigation Policy: Cost Apportionment of Bridge Alterations

• 33 CFR part 279—Resource Use: Establishment of Objectives

• 33 CFR part 320—General Regulatory Policies

• 33 CFR part 321—Permits for Dams and Dikes in Navigable Waters of the United States

• 33 CFR part 322—Permits for Structures or Work In or Affecting Navigable Waters of the United States

• 33 CFR part 323—Permits for Discharges of Dredged or Fill Material into Waters of the United States

• 33 CFR part 324—Permits for Ocean Dumping of Dredged Material

• 33 CFR part 325—Processing of Department of the Army permits

• 33 CFR part 326—Enforcement

• 33 CFR part 327—Public Hearings

• 33 CFR part 328—Definition of Waters of the United States

• 33 CFR part 329—Definition of Navigable Waters of the United States

• 33 CFR part 330—Nationwide Permit Program

• 33 CFR part 331—Administrative Appeal Process

• 33 CFR part 332—Compensatory Mitigation for Losses of Aquatic Resources

• 33 CFR part 334—Danger Zone and Restricted Area Regulations

• 33 CFR part 335—Operation and Maintenance of Army Corps of Engineers Civil Works Projects Involving the Discharge of Dredged or Fill Material into Waters of the United States or Ocean Waters

• 33 CFR part 336—Factors to be Considered in the Evaluation of Army Corps of Engineers Dredging Projects Involving the Discharge of Dredged Material into Waters of the United States and Ocean Waters

• 33 CFR part 337—Practice and Procedure

• 33 CFR part 338—Other Corps Activities Involving the Discharge of Dredged Material or Fill into Waters of the United States

• 33 CFR part 384—Intergovernmental Review of Department of the Army Corps of Engineers Programs and Activities

• 33 CFR part 385—Programmatic Regulations for the Comprehensive Everglades Restoration Plan

• 36 CFR part 312—Prohibition of Discriminatory Practices in Water Resources Development Projects

• 36 CFR part 327—Rules and Regulations Governing Public Use of Water Resource Development Projects Administered by the Chief of Engineers

• 36 CFR part 328—Regulation of Seaplane Operations at Civil Works Water Resource Development Projects Administered by the Chief of Engineers

• 36 CFR part 330, Regulation of Law Enforcement Services Contracts at Civil Works Water Resources Projects Administered by the Chief of Engineers

• 36 CFR part 331—Regulations Governing the Protection, Use, and Management of the Falls of Ohio National Wildlife Conservation Area, Kentucky and Indiana

Dated: July 17, 2017.
Jeffery A. Anderson,
Colonel, U.S. Army, Chief of Staff.

[FR Doc. 2017-15231 Filed 7-19-17; 8:45 am]

BILLING CODE 3720-58-P